DEPARTMENT OF THE INTERIOR

Bureau of Land Management

[LLWO3200000-L19900000.PP0000]

Extension of Approved Information Collection, OMB Control Number 1004-0114

AGENCY: Bureau of Land Management, Interior.

ACTION: 60-day notice and request for comments.

SUMMARY: In compliance with the Paperwork Reduction Act of 1995, the Bureau of Land Management (BLM) announces its intention to request that the Office of Management and Budget (OMB) extend approval for the paperwork requirements in 43 CFR parts 3830 through 3838, which pertain to unpatented mining claims, mill sites, and tunnel sites. The Office of Management and Budget (OMB) previously approved this information collection activity under the control number 1004-0114.

DATES: You must submit your comments to the BLM at the address below on or before September 29, 2009. The BLM is not obligated to consider any comments postmarked or received after the above date.

ADDRESSES: You may mail comments to: U.S. Department of the Interior, Bureau of Land Management, Mail Stop 401-LS, 1849 C St., NW., Washington, DC 20240, Attention: 1004-0114. You may also comment by e-mail at: Jean_Sonneman@blm.gov. Comments will be available for public review at the L Street address during regular business hours (7:45 a.m. to 4:15 p.m.), Monday through Friday, excluding Federal holidays.

FOR FURTHER INFORMATION CONTACT: You may contact Sonia Santillan, Mineral Leasing Specialist, Bureau of Land Management, Division of Solid Minerals, (202) 452-0398 (Commercial or FTS). Persons who use a telecommunication device for the deaf (TDD) may call the Federal Information Relay Service (FIRS) on 1-800-877-8330, 24 hours a day, seven days a week, to contact Ms. Santillan. You may also contact Ms. Santillan to obtain a copy, at no cost, of the regulations and forms that require this collection of information.

SUPPLEMENTARY INFORMATION: OMB regulations at 5 CFR 1320, which implement provisions of the Paperwork Reduction Act (44 U.S.C. 3501-3521), require that interested members of the public and affected agencies be provided an opportunity to comment on information collection and recordkeeping activities (see 5 CFR 1320.8(d) and 1320.12(a)). This notice identifies information collections that are contained in 43 CFR parts 3830 through 3838. The BLM will request that the OMB approve this information collection activity for a 3-year term.

Comments are invited on: (1) The need for the collection of information for the performance of the functions of the agency; (2) the accuracy of the agency's burden estimates; (3) ways to enhance the quality, utility, and clarity of the information collection; and (4) ways to minimize the information collection burden on respondents, such as use of automated means of collection of the information. A summary of the public comments will accompany the BLM's submission of the information collection requests to OMB.

The following information is provided for the information collection:

Title: Recordation of Location Notices and Mining Claims; Payment of Fees (43 CFR parts 3830-3838).

Forms:

• Form 3830-2, Maintenance Fee Waiver; and

• Form 3830-3, Notice of Intent to Locate a Lode or Placer Mining Claims.

OMB Control Number: 1004-0114.

Abstract: This notice pertains to information collections that are necessary for the recordation of unpatented mining claims, mill sites, and tunnel sites; the annual maintenance of such claims and sites; the collection of statutory location and maintenance fees; and the adjudication of mineral rights. The information collections covered by this notice are found at 43 CFR parts 3830 through 3838, and in the forms listed above.

Frequency: On occasion.

Estimated Number and Description of Respondents: 224,420.

Estimated Reporting and Recordkeeping “Hour” Burden: The currently approved annual reporting burden for this collection is 31,135 hours. The following chart details the individual components and respective hour burden estimates of this information collection request:

Regulation 43 CFR part | Estimated number of responses annually | Estimated time per response (minutes) | Estimated hours annually (b × c)
(a) | (b) | (c) | (d)
3830—Locating, Recording, and Maintaining Mining Claims or Sites | 111,274 | 8 | 14,837
3832—Locating Mining Claims or Sites | 1,800 | 8 | 240
3833—Recording Mining Claims and Sites | 1,800 | 8 | 240
3834—Required Fees for Mining Claims or Sites | 100,000 | 8 | 13,333
3835—Waivers from Annual Maintenance Fees (Form No. 3830-2) | 5,675 | 20 | 1,892
3836—Annual Assessment Work Requirements for Mining Claims | 1,800 | 8 | 240
3837—Acquiring a Delinquent Co-Claimant's Interests in a Mining claim or Site | 1,800 | 8 | 240
3838—Special Procedures for Locating and Recording Mining Claims and Tunnel Sites on Stockraising Homestead Act (SRHA) Lands (Form No. 3830-3) | 271 | 25 | 113
Totals | 224,420 | 93 | 31,135

Estimated Reporting and Recordkeeping “Non-Hour Cost” Burden: The currently approved annual non-hour cost burden for Control Number 1004-0114 is $6,775. All of the non-hour cost burdens are for non-refundable filing fees.

The PRA (44 U.S.C. 3501, et seq.) provides that an agency may not conduct or sponsor a collection of information unless it displays a currently valid OMB control number. Until OMB approves a collection of information, you are not obligated to respond.

The BLM will summarize all responses to this notice and include them in the request for OMB approval. All comments will become a matter of public record. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer, Bureau of Land Management.

[FR Doc. E9-18338 Filed 7-30-09; 8:45 am]

BILLING CODE 4310-84-P